COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before June 24, 2026.

ADDRESSES: Written comments and recommendations for the proposed information collection should be submitted within 30 days of this notice's publication to OIRA, at https://www.reginfo.gov/public/do/PRAMain. Please find this particular information collection by selecting “Currently under 30-day Review—Open for Public Comments” or by using the website's search function. Comments can be entered electronically by clicking on the “comment” button next to the information collection on the “OIRA Information Collections Under Review” page, or the “View ICR-Agency Submission” page. A copy of the supporting statement for the collection of information discussed herein may be obtained by visiting https://www.reginfo.gov/public/do/PRAMain.

In addition to the submission of comments to https://Reginfo.gov as indicated above, a copy of all comments submitted to OIRA may also be submitted to the Commodity Futures Trading Commission (the “Commission” or “CFTC”) by clicking on the “Submit Comment” box next to the descriptive entry for OMB Control No. 3038-0107, at https://comments.cftc.gov/.

Or by either of the following methods:

• Mail: Christopher Kirkpatrick, Secretary of the Commission, Commodity Futures Trading Commission, Three Lafayette Centre, 1155 21st Street NW, Washington, DC 20581.

• Hand Delivery/Courier: Same as Mail above.

All comments must be submitted in English, or if not, accompanied by an English translation. Comments will be posted as received to http://www.cftc.gov. You should submit only information that you wish to make available publicly. If you wish the Commission to consider information that you believe is exempt from disclosure under the Freedom of Information Act, a petition for confidential treatment of the exempt information may be submitted according to the procedures established in § 145.9 of the Commission's regulations.¹ The Commission reserves the right, but shall have no obligation, to review, pre-screen, filter, redact, refuse or remove any or all of your submission from https://www.cftc.gov that it may deem to be inappropriate for publication, such as obscene language. All submissions that have been redacted or removed that contain comments on the merits of the ICR will be retained in the public comment file and will be considered as required under the Administrative Procedure Act and other applicable laws, and may be accessible under the Freedom of Information Act.

¹ 17 CFR 145.9.

FOR FURTHER INFORMATION CONTACT: Dan Rutherford, Associate Director, Office of Public Affairs, Office of Customer Education and Outreach, Commodity Futures Trading Commission, (202) 418-6552; email: drutherford@cftc.gov, and refer to OMB Control No. 3038-0107.

SUPPLEMENTARY INFORMATION:

Title: Generic Clearance for the Collection of Qualitative Feedback for Agency Service Delivery (OMB Control No. 3038-0107). This is a request for an extension of a currently approved information collection.

Abstract: Executive Order 12862 directs Federal agencies to provide service to the public that matches or exceeds the best service available in the private sector. In order to work continuously to ensure that our programs are effective and meet our customers' needs, the Commodity Futures Trading Commission's Office of Customer Education and Outreach (OCEO) seeks to obtain OMB approval of a generic clearance to collect qualitative and quantitative feedback. By feedback we mean information that provides useful insights on perceptions and opinions but are not statistically significant surveys that yield results that can be generalized to the population of study.

This collection of information is necessary to enable the OCEO to garner customer and stakeholder feedback in an efficient and timely manner in accordance with our commitment to improving service delivery. The information collected from our customers and stakeholders will help ensure that users have effective, efficient, and satisfying experiences with OCEO programs. This feedback will provide insights into customer or stakeholder perceptions, experiences and expectations, provide an early warning of issues with service, or focus attention on areas where communication, training or changes in operations might improve delivery of products or services. These collections will allow for ongoing, collaborative and actionable communications between the OCEO and its customers and stakeholders. It will also allow feedback to contribute directly to the improvement of program management.

On December 18, 2025, the Commission published in the Federal Register notice of the proposed extension of this information collection and provided 60 days for public comment on the proposed extension, 90 FR 59093 (60-Day Notice) The Commission did not receive any relevant comments on the 60-Day Notice.

Burden Statement: This is a renewal request for a previous generic approval. No changes in requirements are anticipated. The respondent burden for this collection is estimated to be as follows:

Estimated Number of Respondents Annually: 14,400.

Estimated Average Burden Hours per Respondent: 2 hours.

Estimated Total Annual Burden Hours: 28,800 hours.

Frequency of Collection: Once per request.

There are no capital costs or operating and maintenance costs associated with this collection.

(Authority: 44 U.S.C. 3501 et seq.)

Dated: February 23, 2026
Robert Sidman,
Deputy Secretary of the Commission.

[FR Doc. 2026-03761 Filed 2-24-26; 8:45 am]

BILLING CODE 6351-01-P